DEPARTMENT OF HEALTH AND HUMAN SERVICES

Health Resources and Services Administration

Notice of Non-Federal Funds Reported by State/Jurisdiction Awardees on the Maternal, Infant, and Early Childhood Home Visiting Program for the Purposes of Meeting Maintenance of Effort Requirements (2019 and 2021)

AGENCY: Health Resources and Services Administration (HRSA), Department of Health and Human Services.

ACTION: Notice.

SUMMARY: HRSA announces the publication of the amount of non-Federal funds each Maternal, Infant, and Early Childhood Home Visiting Program state/jurisdiction awardee has reported expending for fiscal years (FY) 2019 and 2021 for the purposes of meeting maintenance of effort requirements under this provision.

FOR FURTHER INFORMATION CONTACT: Nate Stritzinger, Policy Analyst, Division of Home Visiting and Early Childhood Systems, Health Resources and Services Administration, 5600 Fishers Lane, Rockville, MD 20857; telephone: (301) 443-8590; email: nstritzinger@hrsa.gov.

SUPPLEMENTARY INFORMATION: The MIECHV Program, authorized by section 511 of the Social Security Act, 42 U.S.C. 711, as amended by The Jackie Walorski Maternal and Child Home Visiting Reauthorization Act of 2022 (Section 6101 of the Consolidated Appropriations Act, 2023 (Pub. L. 117-328)), is administered by HRSA in partnership with the Administration for Children and Families. Under section 511(f)(2) of the Social Security Act (42 U.S.C. 711(f)(2)), HRSA is required to publish the amount of non-federal funds each state/jurisdiction awardee has reported expending to satisfy the maintenance of effort (MOE) requirement for FY 2019 and 2021 no later than June 30, 2023. These amounts are listed in Table 1. For the Secretary to make an award to an eligible state or jurisdiction, that entity must meet the MOE requirement outlined in authorizing statute. To meet this requirement, beginning in FY 2023 the total amount of non-federal funds obligated by the eligible entity in the state or jurisdiction in the fiscal year for a MIECHV Program must not be less than the total amount of non-federal funds reported to have been expended by any eligible entity on evidence-based home visiting and home visiting initiatives for such a program in the state in FY 2019 or 2021, whichever is the lesser.

Table 1—Maternal, Infant, and Early Childhood Home Visiting Program: Non-Federal Funds Reported by State/Jurisdiction To Satisfy MOE Requirement for FY 2019 and FY 2021
State/jurisdiction | Awardee name | FY 2019 MOE amt. | FY 2021 MOE amt.
Alaska | Alaska Department of Health and Social Services | $0.00 | $0.00
Alabama | Alabama Department of Early Childhood Education | 0.00 | 0.00
Arkansas | Arkansas Department of Health | 0.00 | 0.00
American Samoa | American Samoa—Department of Health | 0.00 | 0.00
Arizona | Arizona Department of Health Services | 0.00 | 0.00
California | California Department of Public Health | 1,879,834 | 11,948,600.00
Colorado | Colorado Department of Human Services | 5,521,422.00 | 5,208,778.00
Connecticut | Connecticut Office of Early Childhood | 10,217,642 | 10,278,822
District of Columbia | Government of the District of Columbia | 707,808.76 | 635,825.88
Delaware | Executive Office of the Governor of Delaware | 1,219,950.00 | 1,704,950.00
Florida | Florida Association of Healthy Start Coalitions, Inc | 0.00 | 0.00
Georgia | Georgia Department of Public Health | 0.00 | 0.00
Guam | Government of Guam—Department of Administration | 0.00 | 0.00
Hawaii | State of Hawaii Department of Public Health | 3,000,000.00 | 2,024,999.98
Iowa | Iowa Department of Public Health | 734,841.00 | 734,000.00
Idaho | Idaho Department of Health and Welfare | 0.00 | 0.00
Illinois | Illinois Department of Human Services | 15,957,767.10 | 16,172,116.69
Indiana | Indiana State Department of Health | 0.00 | 0.00
Kansas | Kansas Department of Health and Environment | 0.00 | 0.00
Kentucky | Kentucky Cabinet for Health and Family Services | 5,914,517.37 | 5,302,748.42
Louisiana | Louisiana Department of Health and Hospitals | 2,600,000.00 | 2,600,000.00
Massachusetts | Massachusetts Department of Public Health | 0.00 | 0.00
Maryland | Maryland Department of Health and Mental Hygiene | 0.00 | 0.00
Maine | Maine Department of Health and Human Services | 2,000,000.00 | 2,000,000.00
Michigan | Michigan Department of Health and Human Services | 5,282,724.00 | 5,682,692.00
Minnesota | Minnesota Department of Health | 6,386,100.25 | 14,692,443.38
Missouri | Missouri Department of Elementary and Secondary Education | 0.00 | 0.00
Mariana Islands | Commonwealth Healthcare Corporation | 0.00 | 0.00
Mississippi | Mississippi State Department of Health | 0.00 | 0.00
Montana | Montana Department of Public Health and Human Services | 112,255.12 | 139,171.16
North Carolina | North Carolina Department of Health and Human Services | 0.00 | 0.00
North Dakota | Prevent Child Abuse North Dakota | 0.00 | 0.00
Nebraska | Nebraska Department of Health and Human Services | 1,081,807.30 | 952,193.13
New Hampshire | New Hampshire Department of Health and Human Services | 0.00 | 0.00
New Jersey | New Jersey Department of Health | 0.00 | 0.00
New Mexico | New Mexico Department of Children, Youth and Families | 0.00 | 2,275,378.00
Nevada | Nevada Department of Health and Human Services | 0.00 | 28,000.00
New York | New York Department of Health | 2,536,808.19 | 2,627,455.95
Ohio | Ohio Department of Health | 19,392,880.00 | 31,407,409.00
Oklahoma | Oklahoma State Department of Health | 0.00 | 0.00
Oregon | Oregon Department of Human Services | 0.00 | 0.00
Pennsylvania | Pennsylvania Department of Human Services | 0.00 | 0.00
Puerto Rico | Puerto Rico Department of Health | 0.00 | 0.00
Rhode Island | Rhode Island Department of Health | 0.00 | 0.00
South Carolina | The Children's Trust Fund of South Carolina | 0.00 | 0.00
South Dakota | South Dakota Department of Health | 0.00 | 203,581.14
Tennessee | Tennessee Department of Health | 345,000.00 | 345,000.00
Texas | Texas Department of Family Protective Services | 4,034,177.00 | 3,753,104.00
Utah | Utah Department of Health | 0.00 | 0.00
Virginia | Virginia Department of Health | 0.00 | 0.00
Virgin Islands | Virgin Islands Department of Health Group | 0.00 | 0.00
Vermont | Vermont Agency of Human Services | 0.00 | 0.00
Washington | Washington State Department of Early Learning | 3,709,666.00 | 5,962,416.00
Wisconsin | Wisconsin Department of Children and Families | 985,700.00 | 1,985,700.00
West Virginia | West Virginia Department of Health and Human Resources | 982,065.00 | 978,076.00
Wyoming | Wyoming Department of Family Services | 0.00 | 0.00

Carole Johnson,
Administrator.

[FR Doc. 2023-13357 Filed 6-22-23; 8:45 am]

BILLING CODE 4165-15-P